ENVIRONMENTAL PROTECTION AGENCY

[EPA-HQ-OAR-2023-0138; FRL-11433-01-OMS]

Information Collection Request Submitted to OMB for Review and Approval; Comment Request; Regional Haze Regulations (Renewal)

AGENCY: Environmental Protection Agency (EPA).

ACTION: Notice.

SUMMARY: The Environmental Protection Agency (EPA) has submitted an information collection request (ICR), Regional Haze Regulations (EPA ICR Number 2540.04, OMB Control Number 2060-0704) to the Office of Management and Budget (OMB) for review and approval in accordance with the Paperwork Reduction Act. This is a proposed extension of the ICR, which is currently approved through September 30, 2023. Public comments were previously requested via the Federal Register on March 31, 2023, during a 60-day comment period. This notice allows for an additional 30 days for public comments.

DATES: Comments must be submitted on or before October 27, 2023.

ADDRESSES: Submit your comments, referencing Docket ID No. EPA-HQ-OAR-2023-0138 to EPA online using www.regulations.gov (our preferred method) or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Macie Moore, Air Quality Policy Division, Office of Air Quality Planning and Standards, mail code C539-04, U.S. Environmental Protection Agency, Research Triangle Park, NC 27709; telephone number: (919) 541-7873; email address: moore.macie@epa.gov.

SUPPLEMENTARY INFORMATION: This is a proposed extension of the ICR, which is currently approved through September 30, 2023. An agency may not conduct or sponsor and a person is not required to respond to a collection of information unless it displays a currently valid OMB control number.

Public comments were previously requested via the Federal Register on March 31, 2023 during a 60-day comment period (88 FR 19301). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR is for activities related to the implementation of the EPA's regional haze rule, for the time period between September 30, 2023, and September 30, 2026, and renews the previous ICR. The regional haze rule codified at 40 CFR parts 308 and 309, as authorized by sections 169A and 169B of the Clean Air Act, requires states to develop implementation plans to protect visibility in 156 federally protected Class I areas. Tribes may choose to develop implementation plans. For this time period, all 50 states, the District of Columbia, and the U.S. Virgin Islands will be developing and submitting periodic progress reports. Further, 14 states/territories will be developing and submitting periodic comprehensive implementation plan revisions to comply with the regulations.

Form Numbers: None.

Respondents/affected entities: State, local and tribal air quality agencies, regional planning organizations and facilities potentially regulated under the Regional Haze Rule.

Respondent's obligation to respond: Mandatory [40 CFR 51.308(b), (f) and (g)].

Estimated number of respondents: 52 (total).

Frequency of response: Approximately every 5 years.

Total estimated burden: 15,846 hours (per year). Burden is defined at 5 CFR 1320.03(b).

Total estimated cost: $932,062 (per year), which includes $0 annualized capital or operation & maintenance costs.

Changes in Estimates: There is decrease of 22,409 hours in the total estimated respondent burden compared with the ICR currently approved by OMB. This decrease in burden reflects changes in the activities conducted due to the normal progression of the program, especially the fact that all 50 states, the District of Columbia, and the U.S. Virgin Islands will be developing and submitting progress reports by January 31, 2025, while 14 states/territories will be submitting periodic comprehensive State Implementation Plan (SIP) revisions. In the previous ICR period, we assumed 52 states/territories would be developing and submitting comprehensive SIP revisions.

Courtney Kerwin,
Director, Regulatory Support Division.

[FR Doc. 2023-21036 Filed 9-26-23; 8:45 am]

BILLING CODE 6560-50-P